CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. This form is available in alternate formats. Individuals who use a telecommunications device for the deaf (TTY/TDD) may call (202) 606-5256 between the hours of 9 a.m. and 4:30 p.m. Eastern time, Monday through Friday.

Currently, the Corporation is soliciting comments concerning a new information collection activity, the Performance Surveys for Senior Corps Programs. This request for new data collection reflects the Corporation's intent to conduct Performance Surveys for its three Senior Corps programs: the Foster Grandparent Program, the Senior Companion Program, and the Retired and Senior Volunteer Program. Copies of the information collection request can be obtained by contacting the office listed below in the ADDRESSES section of this notice.

DATES: Written comments must be submitted to the office listed in the ADDRESSES section by February 13, 2004.

ADDRESSES: You may submit comments, identified by the title of the information collection activity, by any of the following methods:

(1) By mail sent to: Corporation for National and Community Service, Department of Research and Policy Development; Attention Mr. Nathan Dietz, Research Associate/Statistician; Room 8105, 1201 New York Avenue, NW., Washington, DC, 20525.

(2) By hand delivery or by courier to the Corporation's mailroom at Room 6010 at the mail address given in paragraph (1) above, between 9 a.m. and 4 p.m. Monday through Friday, except Federal holidays.

(3) By fax to: (202) 565-2785, Attention Mr. Nathan Dietz, Research Associate/Statistician.

(4) Electronically through the Corporation's e-mail address system: ndietz@cns.gov.

FOR FURTHER INFORMATION CONTACT: Nathan Dietz, (202) 606-5000, ext. 287, or by e-mail at ndietz@cns.gov.

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology, e.g., permitting electronic submissions of responses.

SUPPLEMENTARY INFORMATION: The Corporation is requesting comments on plans to conduct Performance Surveys for the three major Senior Corps programs, Foster Grandparent Program, Senior Companion Program, and Retired and Senior Volunteer Program. This study is being conducted under contract with Westat, Inc. (#CNCSHQC03003, Task Order #WES03T001) to collect information about local project volunteer outputs and outcomes. This information is to be used by CNCS to prepare Annual Performance Reports, to share with grantees as a means to quantify and describe the services of Senior Corps volunteers, to help program managers to improve the quality of services provided, and to aid the Corporation in responding to ad hoc requests from Congress and other interested parties.

The Performance Surveys for Senior Corps Programs will be distributed to the universe of grantees for each program, samples of volunteer work stations for each program, samples of volunteers for each program, and samples of end beneficiaries for each program.

Type of Review: New collection.

Agency: Corporation for National and Community Service.

Title: Performance Surveys of Senior Corps Programs.

OMB Number: None.

Agency Number: None.

Affected Public: Foster Grandparent, Senior Companion, and Retired and Senior Volunteer grantees; staff of agencies and organizations serving as volunteer work stations for volunteers from those programs; Senior Corps volunteers, and end beneficiaries of volunteer activities.

Total Respondents: 6,000.

Frequency: One time.

Average Time Per Response: 15 minutes.

Estimated Total Burden Hours: 1500 hours.

Total Burden Cost (capital/startup): None.

Total Burden Cost (operating/maintenance): None.

Comments submitted in response to this notice will be summarized and/or included in the request for Office of Management and Budget approval of the information collection request; they will also become a matter of public record.

Dated: December 9, 2003.
David A. Reingold,
Director, Research and Policy Development.

[FR Doc. 03-30893 Filed 12-12-03; 8:45 am]

BILLING CODE 6050-$$-P